DEPARTMENT OF DEFENSE

GENERAL SERVICES ADMINISTRATION

NATIONAL AERONAUTICS AND SPACE ADMINISTRATION

[OMB Control No. 9000-0174; Docket 2012-0076; Sequence 64]

Information Collection; Information Regarding Responsibility Matters

AGENCY: Department of Defense (DOD), General Services Administration (GSA), and National Aeronautics and Space Administration (NASA).

ACTION: Notice of request for public comments regarding an existing OMB information clearance.

SUMMARY: Under the provisions of the Paperwork Reduction Act, the Regulatory Secretariat will be submitting to the Office of Management and Budget (OMB) a request to review and approve an extension of a previously approved information collection requirement regarding Information Regarding Responsibility Matters.

DATES: Submit comments on or before May 28, 2013.

ADDRESSES: Submit comments identified by Information Collection 9000-0174, Information Regarding Responsibility Matters, by any of the following methods:

• Regulations.gov: http://www.regulations.gov. Submit comments via the Federal eRulemaking portal by searching the OMB control number. Select the link “Submit a Comment” that corresponds with “Information Collection 9000-0174, Information Regarding Responsibility Matters”. Follow the instructions provided at the “Submit a Comment” screen. Please include your name, company name (if any), and “Information Collection 9000-0174, Information Regarding Responsibility Matters” on your attached document.

• Fax: 202-501-4067.

• Mail: General Services Administration, Regulatory Secretariat (MVCB), 1275 First Street NE., Washington, DC 20417. ATTN: Hada Flowers/IC 9000-0174, Information Regarding Responsibility Matters.

Instructions: Please submit comments only and cite Information Collection 9000-0174, Information Regarding Responsibility Matters, in all correspondence related to this collection. All comments received will be posted without change to http://www.regulations.gov, including any personal and/or business confidential information provided.

FOR FURTHER INFORMATION CONTACT: Ms. Cecelia L. Davis, Procurement Analyst, Office of Governmentwide Acquisition Policy, at (202) 219-0202 or Cecelia.davis@gsa.gov.

SUPPLEMENTARY INFORMATION:

A. Purpose

This information collection is necessary to: (a) Determine the responsibility of prospective contractors; and (b) ensure that contractors maintain for accuracy and completeness, their integrity and performance information upon which responsibility determinations rely.

Section 872 of the Duncan Hunter National Defense Authorization Act of 2009 (Public Law 110-417), enacted on October 14, 2008, required the development and maintenance of an information system that contains specific information on the integrity and performance of covered Federal agency contractors and grantees. The Federal Awardee Performance and Integrity Information System (FAPIIS) was developed to address these requirements. FAPIIS provides users access to integrity and performance information from the FAPIIS reporting module in the Contractor Performance Assessment Reporting System (CPARS), as well as proceedings information and suspension/disbarment information from the Central Contractor Registration (CCR) and the Excluded Parties List System (EPLS) functions in the System for Award Management (SAM).

The provision at FAR 52.209-7 requires that for each solicitation where the resultant contract value is expected to exceed $500,000, the offeror responds in paragraph (b) as to whether it has, or has not, active Federal contracts and grants that total greater than $10,000,000. Only if the offeror responds affirmatively is there any further FAPIIS-related information collection requirement.

Because the total dollar amount of its current Federal contracts and grants can be quickly retrieved by any firm, the estimated number of hours for response to the check block in paragraph (b) of the provision at 52.209-7 is 0.1 hours. According to the Federal Procurement Data System (FPDS), in Fiscal Year 2011, contracts with values over $500,000 were awarded to 25,065 unique vendors. We estimate an average of five responses annually (i.e., the number of proposals received per solicitation issued).

The clause at FAR 52.209-9 applies to solicitations where the resultant contract value is expected to exceed $500,000 and to contracts in which the offeror has indicated in paragraph (b) of the provision at 52.209-7 that it has current active Federal contracts and grants with total values greater than $10,000,000. Paragraph (a) of the clause at 52.209-9 requires the contractor to update responsibility information on a semiannual basis, throughout the life of the contract, by posting the information in the CCR.

It is estimated that 5,013 respondents (or 20 percent) of the 25,065 contract awardees will indicate an affirmative answer in paragraph (b) of the provision at 52.209-7 and, pursuant to FAR 52.209-9, those contractors will then have to enter FAPIIS-related data into the CCR function in the SAM. Two responses per respondent per year are calculated for those respondents with contracts and grants greater than $10 million, because of the requirement in FAR 52.209-9 for semi-annual updates. Because the FAPIIS information in CCR is maintained on individual vendors, contractors awarded more than one contract will still only have to update the data two times per year regardless of the number of contracts awarded them.

We have used an average burden estimate of 100 hours to enter the company's data into the Web site. This time estimate also includes the average annual recordkeeping time necessary per respondent to maintain the company's information internally. Most large businesses and some small businesses have established systems to track compliance. At this time, all or most Government contractors have entered relevant company data in the CCR in accordance with another information collection requirement.

Annual Reporting Burden

Initial response (52.209-7):

Respondents: 25,065.

Responses per respondent x 5.

Total annual responses 125,325.

Hours per Response 0.1.

Total response burden hours 12,533.

Additional Response (52.209-9):

Respondents: 5,013.

Responses per respondent x 2.

Total annual responses 10,026.

Hours per Response .5.

Total response burden hours 5,013.

Total response burden hours: 17,546.

Annual Recordkeeping Burden

Respondents: 5,013.

Responses per respondent x 1.

Total annual responses 5,013.

Hours per Response 100.

Total Recordkeeping burden hours: 501,300.

Obtaining Copies of Proposals: Requesters may obtain a copy of the information collection documents from the General Services Administration, Regulatory Secretariat (MVCB), 1275 First Street NE., Washington, DC 20417, telephone (202) 501-4755. Please cite OMB Control No. 9000-0174, Information Regarding Responsibility Matters, in all correspondence.

Dated: March 21, 2013.
William Clark,
Acting Director, Federal Acquisition Policy Division, Office of Governmentwide Acquisition Policy, Office of Acquisition Policy, Office of Governmentwide Policy.

[FR Doc. 2013-06917 Filed 3-26-13; 8:45 am]

BILLING CODE 6820-EP-P